DEPARTMENT OF THE INTERIOR

National Park Service

Notice of Inventory Completion for an Associated Funerary Object in the Possession of the U.S. Department of the Interior, National Park Service, Salinas Pueblo Missions National Monument, Mountainair, NM

AGENCY: National Park Service, Interior.

ACTION: Notice.

Notice is hereby given in accordance with provisions of the Native American Graves Protection and Repatriation Act (NAGPRA), 43 CFR 10.9, of the completion of the inventory of an associated funerary object in the possession of the U.S. Department of the Interior, National Park Service, Salinas Pueblo Missions National Monument, Mountainair, NM. This notice is published as part of the National Park Service's administrative responsibilities under NAGPRA, 43 CFR 10.2 (c). The determinations within this notice are the sole responsibility of the National Park Service unit that has control or possession of this Native American associated funerary object. The Assistant Director, Cultural Resources Stewardship and Partnerships, is not responsible for the determinations within this notice.

A detailed assessment and inventory of the associated funerary object has been made by professional staff of the National Park Service, in consultation with representatives of the Pueblo of Acoma, New Mexico; Hopi Tribe of Arizona; Pueblo of Isleta, New Mexico; Pueblo of Jemez, New Mexico; Kiowa Tribe of Oklahoma; Mescalero Apache Tribe, New Mexico; Pueblo of Santo Domingo, New Mexico; Pueblo of Taos, New Mexico; Wichita Tribe of Oklahoma; Ysleta del Sur Pueblo of Texas; and Zuni Tribe of the Zuni Reservation, New Mexico. Representatives of the Piro-Manso-Tiwa, a non-Federally recognized Indian group, were also present at one of the consultation meetings.

According to a notice of inventory completion published in the Federal Register on August 29, 2000 (FR Doc. 00-21974) by the Museum of Indian Arts and Culture/Laboratory of Anthropology, Museum of New Mexico, human remains representing 14 individuals were recovered in 1941 from site LA 83 (Pueblo Pardo Ruin or Grey Town), Socorro County, NM. No known individuals were identified. The one associated funerary object was a single lot of corn kernels. The Museum of Indian Arts and Culture/Laboratory of Anthropology, Museum of New Mexico repatriated these Native American human remains and the associated funerary object to Ysleta del Sur Pueblo of Texas following the required 30 day notice period.

On August 16, 1941, a second associated funerary object, a glaze bowl originally recovered with the above-described 14 individuals, was transferred to the possession of Salinas Pueblo Missions National Monument. The site (LA 83) from which these human remains and associated funerary objects were recovered is located in Socorro County and, based on material culture and architectural features, has been dated to the Pueblo III and Pueblo IV period (A.D. 1300-1630).

The Jumano culture is considered by anthropologists to be a blend of both Anasazi and Mogollon, shifting through time from Mogollon to Rio Grande Anasazi characteristics. Oral tradition evidence acquired from consultation meetings between National Park Service professional staff and the above-mentioned Indian tribes, as well as the archeological and ethnographic evidence, indicates that there is a cultural affiliation between the human remains and associated funerary objects removed from LA 83 and the Pueblo of Acoma, New Mexico; Hopi Tribe of Arizona; Pueblo of Isleta, New Mexico; Pueblo of Jemez, New Mexico; Pueblo of Sandia, New Mexico; Pueblo of Santo Domingo, New Mexico; Pueblo of Taos, New Mexico; Ysleta del Sur Pueblo of Texas; and Zuni Tribe of the Zuni Reservation, New Mexico. In addition, the Piro-Manso-Tiwa, a non-Federally recognized Indian group, are believed to be culturally affiliated with the human remains and associated funerary objects from LA 83.

Based on the above-mentioned information, the Salinas Pueblo Missions National Monument superintendent determined that, pursuant to 43 CFR 10.2 (d)(2), the object listed above is reasonably believed to have been placed with or near individual human remains at the time of death or later as part of the death rite or ceremony. The Salinas Pueblo Missions National Monument superintendent also determined that, pursuant to 43 CFR 10.2 (e), there is a relationship of shared group identity that can be reasonably traced between this Native American associated funerary object and the Pueblo of Acoma, New Mexico; Hopi Tribe of Arizona; Pueblo of Isleta, New Mexico; Pueblo of Jemez, New Mexico; Pueblo of Sandia, New Mexico; Pueblo of Santo Domingo, New Mexico; Pueblo of Taos, New Mexico; Ysleta del Sur Pueblo of Texas; and Zuni Tribe of the Zuni Reservation, New Mexico. In addition, the Salinas Pueblo Missions National Monument superintendent determined that a cultural affiliation exists between this associated funerary object and the Piro-Manso-Tiwa, a non-Federally recognized Indian group.

This notice has been sent to officials of the Pueblo of Acoma, New Mexico; Caddo Tribe of Oklahoma; Hopi Tribe of Arizona; Pueblo of Isleta, New Mexico; Pueblo of Jemez, New Mexico; Kiowa Tribe of Oklahoma; Mescalero Apache Tribe, New Mexico; Pueblo of Sandia, New Mexico; Pueblo of Santo Domingo, New Mexico; Pueblo of Taos, New Mexico; White Mountain Apache Tribe of Arizona; the Wichita Tribe of Oklahoma; Ysleta del Sur Pueblo of Texas; and Zuni Tribe of the Zuni Reservation, New Mexico; as well as to the Piro-Manso-Tiwa Indian group. Representatives of any other Indian tribe that believes itself to be culturally affiliated with this associated funerary object should contact Glenn M. Fulfer, Superintendent, Salinas Pueblo Missions National Monument, P.O. Box 517, Mountainair, NM 87036, telephone (505) 847-2585, Extension 25, before April 9, 2001. Repatriation of the associated funerary object will begin after that date if no additional claimants come forward.

Dated: February 14, 2001.
John Robbins,
Assistant Director, Cultural Resources Stewardship and Partnerships.

[FR Doc. 01-5946 Filed 3-8-01; 8:45 am]

BILLING CODE 4310-70-F